SMALL BUSINESS ADMINISTRATION

[Disaster Declaration #10066 and #10067]

Louisiana Disaster #LA-00001

AGENCY: Small Business Administration.

ACTION: Notice.

SUMMARY: This is a notice of an Administrative declaration of a disaster for the State of Louisiana, dated 03/03/2005.

Incident: Severe Storms and Tornadoes.

Incident Period: 11/23/2004.

Effective Date: 03/03/2005.

Physical Loan Application Deadline Date: 05/02/2005.

EIDL Loan Application Deadline Date: 12/05/2005.

ADDRESSES: Submit completed loan applications to: U.S. Small Business Administration, Disaster Area Office 1, 360 Rainbow Blvd. South 3rd Floor, Niagara Falls, NY 14303.

FOR FURTHER INFORMATION CONTACT: A. Escobar, Office of Disaster Assistance, U.S. Small Business Administration, 409 3rd Street, Suite 6050, Washington, DC 20416.

SUPPLEMENTARY INFORMATION: Notice is hereby given that as a result of the Administrator's disaster declaration on 03/03/2005, applications for disaster loans may be filed at the address listed above or other locally announced locations.

The following areas have been determined to be adversely affected by the disaster:

Primary Parish: La Salle.

Contiguous Parishes: Louisiana, Avoyelles, Caldwell, Catahoula, Grant, Rapides, Winn.

| Percent
The Interest Rates are:
Homeowners with credit available elsewhere | 5.875
Homeowners without credit available elsewhere | 2.937
Businesses with credit available elsewhere | 5.800
Businesses & small agricultural cooperatives without credit available elsewhere | 4.000
Other (including non-profit organizations) with credit available elsewhere | 4.750
Businesses and non-profit organizations without credit available elsewhere | 4.000

The number assigned to this disaster for physical damage is 10066 C and for economic injury is 10067 0.

The State which received an EIDL Declaration # is Louisiana.

(Catalog of Federal Domestic Assistance Numbers 59002 and 59008)

Dated: March 3, 2005.
Hector V. Barreto,
Administrator.

[FR Doc. 05-4784 Filed 3-10-05; 8:45 am]

BILLING CODE 8025-01-P